DEPARTMENT OF ENERGY

Federal Energy Regulatory Commission

[Docket No. CP01-18-000]

Koch Gateway Pipeline Company; Notice of Application

October 26, 2000.

Take notice that on October 24, 2000, Koch Gateway Pipeline Company (Koch Gateway), P.O. Box 1478, Houston, Texas 77251-1478, filed an application in Docket No. CP01-18-000 pursuant to Section 7(b) of the Natural Gas Act (NGA) and Section 157.18 of the Commission's Regulations for permission and approval to abandon by removal approximately 12,497 feet of 16-inch pipeline from Station Number 945+63 to Station Number 820+66 on its Latex-Forth Worth Mainline designated as Index 1 ¹ in Harrison County, Texas (SWEPCO Segment), all as more fully set forth in the application on file with the Commission and open to public inspection.

¹ Index numbers are Koch Gateway's internal designation for transmission facilities.

This filing may be viewed on the web at http://www.ferc.fed.us/online/rims.htm (call 202-208-2222 for assistance). Any questions regarding this application should be directed to: Kyle Stephens, director of Certificates, Koch Gateway Pipeline Company, P.O. Box 1478, Houston, Texas, 77251-1478, (713) 544-7309.

Koch Gateway states that the SWEPCO Segment is in direct conflict with an active surface lignite mine operated by Southwestern Electric Power Company (SWEPCO), a division of American Electric Power. Koch Gateway states that in November 1996, Koch Gateway moved the remaining customers from Index 1 to Index 65-2 and idled Index 1 from Station Number 00+0 to Station Number 1190+15 in east Texas. SWEPCO operates an active surface lignite coal mine that provides the lignite fuel for its local electric generation facility, the Pirkey Power Plant, in the vicinity of the east end of Index 1. For the surface area covered by the mine, SWEPCO owns the land in fee or underlying landowners have assigned their surface rights to SWEPCO. Although portions of both Index 1 and Index 65-2 have been relocated to accommodate previous surface mining activities, the mining activities will again be in direct conflict with Index 1 and Index 65-2. Koch Gateway will relocate the active line, Index 65-2,² but believes it is in the public convenience and necessity to request abandonment of the SWEPCO Segment of idled line—Index 1—at this time.³ This will save SWEPCO the relocation costs associated with Index 1. Due to the pending encroachment by the mining operations, Koch Gateway proposes herein to abandon by removal the SWEPCO Segment—Station Number 945+63 to Station Number 820+66—except for two road crossings. To address SWEPCO's Removal Request, Koch Gateway states it needs to begin removal of the SWEPCO Segment by January 1, 2001.

² To avoid encroachment by SWEPCO on this line currently serving customers, the portion of Index 65-2 from Station Number 249+32 to Station Number 415+64 will be relocated pursuant to 18 C.F.R. Section 157.208(a)(1) under Koch Gateway's blanket certificate authorized in FERC Docket No. CP82-430-000.

³ Koch Gateway states that it is in the process of preparing an application under Section 7(b) of the Natural Gas Act to abandon the currently idled segments of Index 1 not covered by the immediate application. Koch Gateway is currently negotiating with affected landowners and will file such an application in the near future.

Koch Gateway states it will provide the required landowner notifications and notifications to government entities affected by the proposed project including towns, communities and government agencies. Also, Koch Gateway states that public notice of the proposed project will be published twice in a daily or weekly newspaper of general circulation in each county in which the project is located; and further, copies of the application will be available at a library in a central location in each county in which the project is located.

Any person desiring to be heard or to make any protest with reference to said application should on or before November 16, 2000, file with the Federal Energy Regulatory Commission, Washington, D.C. 20426, a petition to intervene or a protest in accordance with the requirements of the Commission's Rules of Practice and Procedure (18 CFR 385.214 or 385.211) and the Regulations under the Natural Gas Act (18 CFR 157.10). All protests filed with the Commission will be considered by it in determining the appropriate action to be taken but will not serve to make the protestants parties to the proceeding. Any person wishing to become party to a proceeding or to participate as a party in any hearing therein must file a petition to intervene in accordance with the Commission's Rules. Beginning November 1, 2000, comments and protests may be filed electronically via the internet in lieu of paper. See, 18 CFR 385.2001(a)(1)(iii) and the instructions on the Commission's web site at http;//www.ferc.fed.us/efi/doorbell.htm.

Take further notice that, pursuant to the authority contained in and subject to the jurisdiction conferred upon the Federal Energy Regulatory Commission by Sections 7 and 15 of the Natural Gas Act and the Commission's Rules of Practice and Procedure, a hearing will be held without further notice before the Commission or its designee on this application if no petition to intervene is filed within the time required herein, if the Commission on its own review of the matter finds that a grant of the certificate is required by the public convenience and necessity. If a petition for leave is timely filed, or if the Commission on its own motion believes that a formal hearing is required, further notice of such hearing will be duly given.

Under the procedure provided for, unless otherwise advised, it will be unnecessary for Koch Gateway to appear or be represented at the hearing.

David P. Boergers,
Secretary.

[FR Doc. 00-27998 Filed 10-31-00; 8:45 am]

BILLING CODE 6717-01-M